DEPARTMENT OF COMMERCE

National Oceanic and Atmospheric Administration

Proposed Amendment to the Puerto Rico Coastal Zone Management Program

AGENCY: National Oceanic and Atmospheric Administration (NOAA), Office for Coastal Management, National Ocean Service, Commerce.

ACTION: Solicitation of Comments; Notice of Public Hearing on Proposed Amendment to Puerto Rico Coastal Management Program.

SUMMARY: The National Oceanic and Atmospheric Administration's (NOAA) Office for Coastal Management is soliciting comments on a program change amendment to the Puerto Rico Coastal Zone Management Program (PRCZMP). This notice describes the opportunities for public comment on the program change.

DATES: The hearing on the program amendment to the PRCMP will be held on Wednesday, September 2, 2015 at 9 a.m. local time at the Environmental Agencies Building, PR-8838 Km. 6.3, Auditorium 4th Floor, El Cinco, Rio Piedras, San Juan, Puerto Rico.

ADDRESSES: Please send written comments to Joelle Gore, Stewardship Division Chief (Acting), NOAA Office for Coastal Management, NOS/OCM/SD, 1305 East-West Highway, 10th Floor, Room 10622, N/OCM6, Silver Spring, Maryland 20910, or Joelle.Gore@noaa.gov.

FOR FURTHER INFORMATION CONTACT: Jackie Rolleri, at Jackie.Rolleri@noaa.gov.

SUPPLEMENTARY INFORMATION:

Background

The federal Coastal Zone Management Act provides incentives to encourage and assist states, commonwealths and territories to develop and implement programs to manage land and water uses which may affect coastal land and water resources. The PRCZMP was approved by NOAA in 1978. Since that time, statutory and regulatory changes have been made to the organizational structure of the land use agencies which comprise the PRCZMP, the land use authority of local governments, and permit review process. These changes are in force and being implemented as laws of the Commonwealth pursuant to the Puerto Rico Permit Process Reform Act of 2009 (Law 161), as amended by Law 151 of 2013, and pursuant to the Autonomous Municipalities Act of 1991 (Law 81). In order to demonstrate that the program continues to meet the requirements for program approval established under the Coastal Zone Management Act and its implementing regulations, the Department of Natural and Environmental Resources has submitted these changes to NOAA for approval. Copies of the proposed changes are available by navigating from the Department of Natural and Environmental Resources homepage at http://www.drna.gobierno.pr/.

NOAA's Office for Coastal Management has determined that these changes are a program amendment. As such, NOAA is required to hold a public hearing on the amendment. The focus of the hearing is whether the PRCZMP continues to meet the requirements for program approval as specified in the Coastal Zone Management Program regulations at 15 CFR part 923. For those interested in making oral statements at the public hearing, the submission of supplemental written comments is encouraged.

In addition to the hearing, NOAA is soliciting written comments from the public on the amendment. Written comments will be accepted before and after the public hearing through September 23, 2015.

Federal Domestic Assistance Catalog 11.419

Coastal Zone Management Program Administration

Dated: July 9, 2015.
Christopher C. Cartwright,
Associate Assistant Administrator for Management and CFO/CAO, Ocean Services and Coastal Zone Management, National Oceanic and Atmospheric Administration.

[FR Doc. 2015-17426 Filed 7-16-15; 8:45 am]

BILLING CODE 3510-08-P